DEPARTMENT OF ENERGY

Federal Energy Regulatory Commission

[Project No. 77-187]

Pacific Gas and Electric Company; Notice of Availability of Environmental Assessment

March 13, 2008.

In accordance with the National Environmental Policy Act of 1969, as amended, and the Federal Energy Regulatory Commission's regulations, 18 CFR part 380 (Order No. 486, 52 FR 47879), the Commission has reviewed an application, filed January 31, 2008, requesting approval to temporarily amend article 52 of the Potter Valley Project license. The project is located on the Eel River and the East Branch Russian River in Lake and Mendocino Counties, California.

Pacific Gas and Electric Company (licensee for the Potter Valley Project) requested approval to allow the diversion of additional water from the Eel River through the Potter Valley powerhouse for use by Potter Valley Irrigation District (PVID) for frost protection of commercial crops. The additional water would be provided to PVID between March 15 and April 14, 2008. The licensee would restore in Lake Pillsbury all additional water diverted for frost protection, starting on April 15, 2008, resulting in a water-neutral situation.

An environmental assessment (EA), prepared by Commission staff in the Office of Energy Projects, analyzed the probable environmental effects of the proposed amendment and has concluded that approval would not constitute a major federal action significantly affecting the quality of the human environment.

A copy of the EA is available for review at the Commission or may be viewed on the Commission's Web site at http://www.ferc.gov using the “eLibrary” link. Enter the docket number excluding the last three digits in the docket number field to access documents. For assistance, contact FERC Online Support at ferconlinesupport@ferc.gov or toll-free at 1-866-208-3676, or for TTY, (202) 502-8659.

Kimberly D. Bose,
Secretary.

[FR Doc. E8-5595 Filed 3-19-08; 8:45 am]

BILLING CODE 6717-01-P